DEPARTMENT OF TRANSPORTATION

Pipeline and Hazardous Materials Safety Administration

[Docket No. PHMSA-2011-0034 (Notice No. 11-1)]

Hazardous Materials: Request for U.S. Competent Authority Approval of International Atomic Energy Agency Special Arrangement CDN/5255/X-96 (Rev. 0) Concerning Transport of Sixteen Radioactively Contaminated Steam Generators From Bruce Power, Tiverton, Ontario to the Studsvik Facility in Sweden via the Great Lakes

AGENCY: Pipeline and Hazardous Materials Safety Administration (PHMSA), DOT.

ACTION: Notice of document availability.

SUMMARY: PHMSA is notifying the public of a request by Bruce Power for U.S. competent authority approval of a Canadian special arrangement transport certificate issued in accordance with the International Atomic Energy Agency (IAEA) “Regulations for the Safe Transport of Radioactive Material” (TS-R-1).

FOR FURTHER INFORMATION CONTACT: Mr. Rick Boyle, Office of Hazardous Materials Engineering and Research, (202) 366-4545, Pipeline and Hazardous Materials Safety Administration.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

SUPPLEMENTARY INFORMATION: On February 4, 2011, the Canadian Nuclear Safety Commission (CNSC) issued a transport license and certificate to Bruce Power for the transport to Sweden of 16 radioactively contaminated decommissioned steam generator large components originally installed in the Bruce Power nuclear power plant near Tiverton, Ontario. The stated purpose of the transport is to conduct recycling and volume reduction activities in Sweden. Under the terms of the license and certificate, the transport of the steam generators would be conducted in accordance with the special arrangement provisions of the International Atomic Energy Agency “Regulations for the Safe Transport of Radioactive Material” (TS-R-1). The initial leg of transport would be by road and entirely within Canada. The steam generators would then be loaded on a vessel in Owen Sound, Ontario for transport to Sweden via Lake Huron, Lake Erie, and Lake Ontario and interconnecting waterways as well as the St. Lawrence River. At various times the vessel would necessarily enter U.S. waters. Therefore, under IAEA special arrangement provisions, the U.S. would need to revalidate the Canadian certificate in order to permit transport. PHMSA is recognized as the IAEA Competent Authority for the U.S. and is responsible for competent authority approval in these cases.

An application requesting the U.S. competent authority approval of the Canadian certificate was received from Bruce Power on Thursday, February 24, 2011. All relevant documents will be made available for public review online in the docket for this notice. PHMSA intends to conduct a fully independent review of the proposed transport including safety, environmental, and fitness assessments, in consultation with the U.S. Nuclear Regulatory Commission and U.S. Coast Guard. PHMSA must approve, deny, or institute additional controls regarding the transport in the request for competent authority approval.

Issued in Washington, DC, on March 23, 2011 under authority delegated in 49 CFR part 106.
Magdy El-Sibaie,
Associate Administrator.

[FR Doc. 2011-7408 Filed 3-29-11; 8:45 am]

BILLING CODE 4910-60-P